DEPARTMENT OF STATE

[Public Notice 4636]

Shipping Coordinating Committee; Notice of Change in Meeting Agenda

As announced in meeting notice 4609 published on March 1, 2004, the Shipping Coordinating Committee (SHC) will conduct an open meeting at 9:30 a.m. on Tuesday, March 23rd, 2004, in Room 2415 of the United States Coast Guard Headquarters Building, 2100 2nd Street, SW., Washington, DC 20593-0001. The primary purpose of the meeting is to prepare for the upcoming 51st session of the Marine Environment Protection Committee (MEPC 51). Following discussion of the agenda items related to MEPC 51, the SHC will discuss the outcome of the Diplomatic Conference on Ballast Water Management for Ships by the International Maritime Organization (IMO) held at IMO Headquarters in London, England from February 9th to 13th, 2004.

Documents associated with the Diplomatic Conference will be available in Adobe Acrobat format on CD-ROM. To request documents please write to the address provided below or by following the Internet link: http://www.uscg.mil/hq/g-m/mso/imomepc.htm. Interested persons may seek information by writing to Lieutenant Junior Grade Mary Stewart, Commandant (G-MSO-4), U.S. Coast Guard Headquarters, 2100 Second Street, SW., Room 1601, Washington, DC 20593-0001 or by calling (202) 267-2079.

Dated: March 1, 2004.
Steven D. Poulin,
Executive Secretary, Shipping Coordinating Committee, Department of State.

[FR Doc. 04-5145 Filed 3-5-04; 8:45 am]

BILLING CODE 4710-07-P